ENVIRONMENTAL PROTECTION AGENCY

[FRL-6605-6]

Notice of Availability of Funds for Source Water Protection

AGENCY: Environmental Protection Agency.

ACTION: Notice.

SUMMARY: The Environmental Protection Agency (EPA) seeks proposals from organizations interested in working with communities across the nation that are served by public water systems with highly or moderately susceptible drinking water sources to protect their sources of drinking water from contamination using a watershed or “resource-based” approach.

EPA is providing this financial support to:

• Facilitate the establishment of a technical field presence nationwide to help communities that would benefit from collaborative source water protection actions with other communities; and

• Assist communities across the country in addressing the obstacles to protecting their water resources and lowering the susceptibility of source waters through a watershed or “resource-based” planning approach.

EPA intends to use at least part of the funds to help an organization interested in establishing a national network of field technicians to assist communities with watershed or resource-based planning to protect their water supplies. However, EPA is very interested in seeing other types of approaches to help communities across the country protect drinking water sources, such as an approach that provides direct financial assistance and technical support to communities through means other than a field presence. Depending upon the proposals received, EPA will consider awarding a second grant that would complement a field technician approach.

DATES: All project proposals must be received by EPA no later than June 12, 2000.

ADDRESSES: Send five copies of the complete proposal to: Betsy Henry (4606), Office of Ground Water and Drinking Water, U.S. EPA, 1200 Pennsylvania Ave, NW, Washington, DC 20460.

FOR FURTHER INFORMATION CONTACT: Betsy Henry, (202) 260-2399.

SUPPLEMENTARY INFORMATION:

Background

What Is a State or Tribal Source Water Assessment?

As mandated by the Safe Drinking Water Act Amendments of 1996, a state's source water assessment identifies the area that supplies water to each public drinking water system within the state, inventories the significant potential sources of contamination, and analyzes how susceptible the drinking water source is to contamination (often referred to as a “susceptibility determination”). The Amendments allocated funding to states to complete source water assessments for all 170,000 public water systems. The results of these assessments are to be provided to each water supplier and made widely accessible to the public by 2003. EPA is also helping Tribes complete source water assessments of public water supplies in Indian Country.

The assessments are intended to give communities the information that they need to make informed decisions to protect their drinking water sources from contamination.

What Is a Highly or Moderately Susceptible Source Water Area?

There is a high degree of flexibility in how a state determines the susceptibility of its public water systems. The organization would need to work with the state source water programs to identify those public water systems or areas of the state that the state determines are highly or moderately susceptible to contamination and would most benefit from source water protection planning on a watershed or resource-wide scale.

What Is Source Water Protection?

Source water protection is the establishment of barriers that significantly lower the risk of contaminants of concern entering waters serving as public drinking water supplies. Building upon State or Tribal source water assessments, more communities will be examining what actions are necessary to protect their sources of drinking water from the identified potential threats, and lower the susceptibility of their water supply to contamination. Planning is a critical first step so that a community or group of communities can use their limited resources to most effectively target sources of contamination that pose the highest or most immediate threats. Many communities need assistance working through the planning process.

Ideally, communities with public water systems that share the same resource or common threats would work together to identify their needs and jointly set priorities. Some basic planning elements include:

• An analysis of the state or tribal source water assessment for the systems involved in the planning.

• Identification of preventative action priorities and recommended measures for addressing them, including costs.

• Identification of an approach for determining the effect of the proposed priority actions on lowering the threats to source waters.

• Identification of alternative water supplies which would be needed in the case of emergencies (contingency planning).

Many communities also need assistance in addressing their priority preventative actions. Preventative actions might include land acquisition, land use ordinance establishment, leaky underground gas tank removal from sensitive areas, relocation of high-risk threats, or other measures.

What Is “Resource-Based” Source Water Protection?

A resource-based approach to source water protection promotes partnerships between public water systems that share a common source (river, lake, spring or aquifer) or face common contaminant threats. The approach encourages joint protection of water supplies through a single planning and prioritization process. A single water system might also benefit from a resource-based approach if the community can not adequately protect its drinking water source without collaborating with communities in the same watershed or recharge area that may have more control over potential threats to the water supply.

While similar, a resource-based approach is distinguished from watershed planning by focusing also on ground water areas that may not coincide with a watershed boundary. It is distinguished from traditional wellhead protection planning by broadening the scope from the traditional water system-by-system planning approach to planning on a shared resource scale that is based on natural geological and hydrological boundaries. However, a resource-based approach is not necessarily the same as large aquifer-wide planning (such as the Edwards aquifer) or a large watershed (e.g. Mississippi basin). These large scales often are beyond the scope of what is realistic or necessary for protecting sources of drinking water.

Why Is EPA Limiting the Focus to Highly or Moderately Susceptible Source Waters, and Using a Watershed or Resource-Wide Approach?

There are over 170,000 public water systems in the United States. While States have resources through the State Revolving Fund Programs, EPA has limited discretionary resources to help local communities implement source water protection for all of these systems' sources of drinking water. EPA believes that communities with public water supplies that are most susceptible to contamination should be the communities first targeted for assistance to identify and implement preventative measures to protect their drinking water sources.

EPA is also trying to encourage watershed-based or resource-based approaches to source water protection as an alternative to the traditional water system-by-system wellhead protection approach. This “multi-system” planning process can be more cost effective because one protection plan serves several systems. Also, it can result in a level of protection that is sometimes more effective in lowering threats, since threats to water quality are not always close to the intake or wellhead.

Funding Level and Statutory Authority

Funding is authorized under the Safe Drinking Water Act 42 U.S.C. 300j-1(c)(3)(C).

Total funding available for distribution is $1.4 million dollars. EPA intends to disburse these funds to one or possibly two organizations if, based on the applications received, communities will benefit from two approaches that complement one another.

Proposal Contents

• Interested applicants should submit a work plan that:

• Outlines the approach to assisting communities to engage in community-based source water protection planning and priority action implementation.

• Includes a budget for no less than $700,000 and no more than $1.4 million for implementing the approach over a two-year period.

• Provides biographies of the project leaders.

Eligibility Criteria

• The recipient organization must be a not-for-profit organization, educational institution, or public agency that meets the following criteria:

• Experience providing technical assistance to communities implementing community-based environmental programs for protecting drinking water, ground water or surface water quality.

• Experience working with communities to do resource-based/watershed or multi-jurisdictional planning, and facilitating partnerships between disparate stakeholders.

• Access to an established network capable of working with communities nationwide.

• Experience working with state agencies.

• Experience handling large grants of $700,000 or more, timely periodic reporting of progress and displaying the results of those grants to a wide public.

EPA Project Proposal Evaluation Criteria

EPA will evaluate all applicants based on the following criteria:

• Clearly outlines the approach that the organization will take to assist communities in a variety of regions across the country served by public water systems that have state-identified highly or moderately susceptible source waters. (30 points)

• Demonstrates knowledge of source water protection and ability to provide assistance to communities to effectively protect their drinking water supplies and address their highest priority needs. (25 points)

• Describes approach to community involvement in source water protection planning. (20)

• Identifies innovative means of networking the different communities receiving assistance with one another. (20 points)

• Leverages other resources as part of the proposed approach. (5 points)

Application Procedure

Please submit five copies of a proposal that includes a narrative work plan and budget that does not exceed 10 single spaced pages, with one-inch margins and 12-point font, stapled in one corner with no binding. You may also include up to 15 pages of supplementary material, such as the resumes and summaries of prior work. After EPA review, selected applicants will be asked to submit an SF-424.

Schedule of Activities

This is the estimated schedule of activities for review and award of proposals.

• Day 30: Proposals due 30 days after publication of Federal Register notice.

• Day 44: All applicants notified of government review status.

• Day 54: Selected applicant(s) submit a SF-424.

• July 10: Selected application(s) forwarded to EPA grants office.

• Aug. 10: Grants processing complete/Congressional notifications.

Dated: May 4, 2000.
Cynthia C. Dougherty,
Director, Office of Ground Water and Drinking Water.

[FR Doc. 00-11818 Filed 5-10-00; 8:45 am]

BILLING CODE 6560-50-P